Title 3—

The President

Proclamation 10728 of April 18, 2024

Education and Sharing Day, USA, 2024

By the President of the United States of America

A Proclamation

This Education and Sharing Day, USA, we remember the life and legacy of the Lubavitcher Rebbe, Rabbi Menachem Mendel Schneerson, as the leader of the Chabad-Lubavitch movement and recommit to our shared values of honesty, dignity, and equal justice that he long championed and that have made America strong.

Forced to flee Nazi-occupied Europe during one of history's darkest moments, the Rebbe found a new home and purpose in America. In the wake of the Holocaust, he led hundreds of thousands to deepen their faith. As a prolific scholar and teacher, his calls for new schools and community centers inspired people to build them in all 50 States and across the globe, and they moved generations to embrace education not only as a means of self-improvement but as an essential path to a more just society. Here in America, he also offered counsel to some of my predecessors as President, always advocating for our Nation's role as a beacon of hope in the world.

We honor the Rebbe's birthday every year, but we know this year is different. Violence and cruelty have reminded us that hate never goes away—it only hides. Silence is complicity, and America will not be silent. As Americans, we reject terrorism and will keep working unequivocally to combat antisemitism at every turn. My Administration remains dedicated to Israel's security, and here at home, we have been implementing America's first-ever National Strategy to Counter Antisemitism. We will give hate no safe harbor.

The Rebbe knew that education is fundamental to cultivating understanding and acceptance. It opens us up to one another, and it builds not just knowledge but character, as well as an awareness of something bigger than ourselves. The Rebbe's beliefs are reflected in the American creed that every person is created equal and deserves to be treated equally throughout their lives, starting with access to a quality education—a mission my Administration shares.

As we approach the 30th anniversary of the Rebbe's passing, we honor his work by celebrating our common faith in our Nation and by working to ensure that every American has a chance to learn, grow, and thrive—in the classroom and as caring and courageous people.

NOW, THEREFORE, I, JOSEPH R. BIDEN JR., President of the United States of America, by virtue of the authority vested in me by the Constitution and the laws of the United States, do hereby proclaim April 19, 2024, as Education and Sharing Day, USA. I call upon government officials, educators, volunteers, and all the people of the United States to observe this day with appropriate programs, ceremonies, and activities.

IN WITNESS WHEREOF, I have hereunto set my hand this eighteenth day of April, in the year of our Lord two thousand twenty-four, and of the Independence of the United States of America the two hundred and forty-eighth.

[FR Doc. 2024-08787

Filed 4-22-24; 8:45 am]

Billing code 3395-F4-P